DEPARTMENT OF AGRICULTURE

Forest Service

Buckhorn Mountain Project a Supplement to the Final Environmental Impact Statement or for Crown Jewel Mine, Okanogan and Wenatchee National Forests, Okanogan County, WA.

AGENCY: Forest Service, USDA.

ACTION: Cancellation of Notice of intent to prepare an environmental impact statement.

SUMMARY: On September 5, 2003, a Notice of Intent (NOI) to prepare an environmental impact statement (EIS) for the Buckhorn Mountain Project, a Supplement to the final environmental impact statement for the Crown Jewel Mine was published in the Federal Register (68 FR 52736). The Forest Service has decided to cancel the preparation of this EIS. The NOI is hereby rescinded.

FOR FURTHER INFORMATION CONTACT: Questions may be addressed to Jan Flatten, Forest Environmental Coordinator, Okanogan and Wenatchee National Forest, Okanogan Valley Office, 1240 Second Avenue South, Okanogan, WA 98840. Telephone: (509) 826-3277.

Dated: July 12, 2005.
Norm Day,
Holden Project Manager, Okanogan and Wenatchee National Forests.

[FR Doc. 05-14375 Filed 7-20-05; 8:45 am]

BILLING CODE 3410-11-M